DEPARTMENT OF COMMERCE

Foreign-Trade Zones Board

[B-63-2014]

Foreign-Trade Zone 44—Morris County, New Jersey; Authorization of Production Activity; Panasonic System Communications Company of North America (Laptop Computers); Rockaway, New Jersey

On September 8, 2014, the New Jersey Department of State, grantee of FTZ 44, submitted a notification of proposed production activity to the Foreign-Trade Zones (FTZ) Board on behalf of Panasonic System Communications Company of North America, within Subzone 44G, in Rockaway, New Jersey.

The notification was processed in accordance with the regulations of the FTZ Board (15 CFR part 400), including notice in the Federal Register inviting public comment (79 FR 56058, 9-18-2014). The FTZ Board has determined that no further review of the activity is warranted at this time. The production activity described in the notification is authorized, subject to the FTZ Act and the Board's regulations, including Section 400.14.

Dated: January 6, 2015.
Andrew McGilvray,
Executive Secretary.

[FR Doc. 2015-00177 Filed 1-8-15; 8:45 am]

BILLING CODE 3510-DS-P